DEPARTMENT OF THE INTERIOR

Bureau of Land Management

DEPARTMENT OF AGRICULTURE

Forest Service

CA-668-1040 (P)]

Reopening of Call for Nomination for the Santa Rosa and San Jacinto Mountains National Monument Advisory Committee

AGENCIES: Bureau of Land Management, Interior; Forest Service, Agriculture.

ACTION: Notice of re-open of a call for nominations for the Santa Rosa and San Jacinto Mountains National Monument Advisory Committee.

SUMMARY: Under the Santa Rosa and San Jacinto Mountains National Monument Act of 2000, Public Law 106-351 (16 U.S.C. 431 note), the Department of the Interior's Bureau of Land Management and the Department of Agriculture's U.S. Forest Service are re-opening nominations for five members of the public to serve on the Santa Rosa and San Jacinto Mountains National Monument Advisory Committee. Nominations will be accepted for thirty days following the publication date of this notice.

The call for nominations is for representatives for the County of Riverside, the cities of Indian Wells and Cathedral City, the Coachella Valley Mountains Conservancy, and the Winter Park Authority.

Committee members will be appointed to serve 3-year terms and may be nominated for reappointment for an additional three-year term. The three-year term would begin November 2002. All members will serve without pay but will be reimbursed for travel and per diem expense at the current rates for government employees under 5 U.S.C. 5703. The Secretary of the Interior will make appointments to the Committee with the concurrence of the Secretary of Agriculture.

The Santa Rosa and San Jacinto Mountains National Monument Act of 2000 (Act) required that the Secretaries of the Interior and Agriculture establish a National Monument Advisory Committee (Committee) to advise them on resource management issues associated with the Santa Rosa and San Jacinto Mountains National Monument, specifically providing guidance on the National Monument Plan. This notice requests the public to submit nominations for five memberships on the Committee. The Committee is managed under the provisions of the Federal Advisory Committee Act.

SUPPLEMENTARY INFORMATION: As directed by the Act, the Secretary of the Interior and the Secretary of Agriculture jointly established an advisory committee for the Santa Rosa and San Jacinto Mountains National Monument (Monument). The Committee's purpose is to advise the Secretaries with respect to the preparation and implementation of a management plan for the Monument. The Committee meets every other month on a Saturday. The purpose of the Committee is to gather and analyze information, conduct studies and field examinations, hear public testimony, ascertain facts, and, in an advisory capacity only, develop recommendations concerning planning for the management and uses of the National Monument. The designated Federal officer, or his or her designee, in connection with special needs for advice, may call additional meetings. A Committee Chairperson and Vice Chairperson will be elected by the Committee from among its' members annually.

Any individual or organization may nominate one or more persons to serve on the Committee. Individuals may nominate themselves for Committee membership. You may obtain nomination forms from the BLM or Forest Service by contacting the individuals listed in ADDRESSES above. To make a nomination, you must submit a completed nomination form, letters of reference from the represented interests or organization, and any other information that speaks to the nominee's qualification, to the offices listed above. You may make nominations for the following categories of interest, as specified in the Act: (1) A representative of the Country of Riverside, California; (2) a representative from each of the following cities: Cathedral City and Indian Wells; (3) a representative of the Coachella Valley Mountains Conservancy; (4) a representative of the Winter Park Authority. Nominations to the Committee should describe and document the proposed member's qualifications for membership on the Advisory Committee.

DATES: Submit nominations to the address listed below no later than 30 days after the publication of this notice to re-open the call for nomininations in the Federal Register.

ADDRESSES: Send nominations to: Advisory Committee Nominations, Ms. Danella George, Bureau of Land Management, P.O. Box 581260, North Palm Springs, California, 92258-1260.

FOR FURTHER INFORMATION CONTACT: Ms. Danella George, Santa Rosa and San Jacinto Mountains National Monument, (760) 251-4800.

Dated: August 29, 2002.
Elena Misquez,
Associate Field Manager, Palm Springs/South Coast Field Office, Bureau of Land Management.
Laurie Rosenthal,
District Ranger, San Jacinto Ranger District, San Bernardino National Forest.

[FR Doc. 02-22653 Filed 9-5-02; 8:45 am]

BILLING CODE 4310-33-P